DEPARTMENT OF ENERGY

Federal Energy Regulatory Commission

[Docket No. RP02-68-001]

Midwestern Gas Transmission Company; Notice of Compliance Tariff Filing

January 16, 2002.

Take notice that on January 9, 2002, Midwestern Gas Transmission Company (Midwestern) tendered for filing to become part of its FERC Gas Tariff, Third Revised Volume No. 1, the following tariff sheets to become effective January 1, 2002:

First Revised Sheet No. 80

First Revised Sheet No. 81

Midwestern states that the purpose of this filing is comply with the Commission's order dated December 28, 2001, 97 FERC 61,386, (December 28 Order), wherein the Commission directed Midwestern to file revised tariff sheets for Rate Schedule PAL.

Midwestern states that copies of this filing have been sent to all parties of record in this proceeding.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 02-1585 Filed 1-22-02; 8:45 am]

BILLING CODE 6717-01-P